DEPARTMENT OF DEFENSE

Defense Acquisition Regulations System

[Docket DARS-2018-0005]

Opportunity for Public Comment on Proposed Definition of “Procurement Administrative Lead Time” or “PALT” and the Plan for Measuring and Publically Reporting Data on PALT for Department of Defense Contracts and Task Orders Above the Simplified Acquisition Threshold

AGENCY: Defense Acquisition Regulations System (DARS), Department of Defense (DoD).

ACTION: Notice; request for public comments.

SUMMARY: In accordance with section 886 of the National Defense Authorization Act for Fiscal Year 2018, DoD is requesting public comments on a proposed definition of “Procurement Administrative Lead Time” or “PALT”, that will be applied DoD-wide, and DoD's plan for measuring and publicly reporting data on PALT for DoD contracts and task orders above the simplified acquisition threshold.

DATES: Interested parties should submit written comments to the address shown below on or before March 12, 2018, to be considered.

ADDRESSES: Submit comments identified by “DARS-2018-0005” using any of the following methods:

○ Regulations.gov: http://www.regulations.gov. Submit comments via the Federal eRulemaking portal by entering “DARS-2018-0005” under the heading “Enter keyword or ID” and selecting “Search.” Select the link “Submit a Comment” that corresponds with “DARS-2018-0005.” Follow the instructions provided at the “Submit a Comment” screen. Please include your name, company name (if any), and “DARS-2018-0005” on your attached document.

○ Mail: Defense Procurement and Acquisition Policy, Attn: Mr. Greg Snyder, 3060 Defense Pentagon, Room 5E621, Washington, DC 20301-3060.

FOR FURTHER INFORMATION CONTACT: Mr. Greg Snyder, Senior Procurement Analyst, Office of the Under Secretary of Defense for Acquisition and Sustainment (OUSD(A&S)), Defense Procurement and Acquisition Policy, Contract Policy and International Contracting; telephone 703-614-0719.

SUPPLEMENTARY INFORMATION: Section 886 of the National Defense Authorization Act for Fiscal Year 2018 (Pub. L. 115-91), requires DoD to develop and make available for public comment a definition of the term “Procurement Administrative Lead Time” or “PALT” and a plan for measuring and publicly reporting data on PALT for DoD contracts and task orders above the simplified acquisition threshold. DoD is proposing to define PALT as “the time between the date on which the initial solicitation for a contract or task order of the Department of Defense is issued and the date of the award of the contract or task order.” The Department plans to use Federal Procurement Data System—Next Generation (FPDS-NG), the authoritative source for Governmentwide contract award data, to measure PALT and make PALT data available to the public. The Department plans to submit a Change Control Board request to the General Services Administration to update FPDS-NG by adding a new data field that reflects when the solicitation for a contract or task order valued above the simplified acquisition threshold is issued. Once the FPDS-NG system is updated (estimated to be completed in fiscal year 2019), the public will be able to utilize FPDS-NG to obtain the PALT information for any contract or task order issued by the DoD that is valued above the simplified acquisition threshold. The public is invited to submit comments on this proposed definition and the plan as instructed in the addresses section of this notice.

Jennifer L. Hawes,
Regulatory Control Officer, Defense Acquisition Regulations System.

[FR Doc. 2018-02599 Filed 2-8-18; 8:45 am]

BILLING CODE 5001-06-P